ENVIRONMENTAL PROTECTION AGENCY

40 CFR Part 52

[MT-001-0024, MT-001-0025, MT-001-0026; FRL-6883-6]

Clean Air Act Approval and Promulgation of Air Quality Implementation Plan; Montana; East Helena Lead State Implementation Plan

Correction

In the issue of Monday, November 13, 2000 on page 67796, in the first column, in the correction of proposed rule document 00-25929, in instruction number 1, in the first line, “30147 ” should read “60147 ”.

[FR Doc. C0-25929 Filed 11-27-00; 8:45 am]

BILLING CODE 1505-01-D

DEPARTMENT OF ENERGY

Federal Energy Regulatory Commission

[Docket No. ER01-363-000]

American Transmission Systems, Inc.; Notice of Filing

Correction

In notice document 00-29592 appearing on page 69755 in the issue of Monday, November 20, 2000, the docket number is corrected to read as set forth above.

[FR Doc. C0-29592 Filed 11-27-00; 8:45 am]

BILLING CODE 1505-01-D

DEPARTMENT OF ENERGY

Federal Energy Regulatory Commission

[Docket No. ER01-358-000]

New York State Electric & Gas Corporation; Notice of Filing

Correction

In notice document 00-29589 appearing on page 69757 in the issue of Monday, November 20, 2000, the docket number is corrected to read as set forth above.

[FR Doc. C0-29589 Filed 11-27-00; 8:45 am]

BILLING CODE 1505-01-D

SECURITIES AND EXCHANGE COMMISSION

[Release No. 34-43480; File Nos. SR-PHLX-00-86 and SR-PHLX-00-87]

Self-Regulatory Organizations; Notice of Filing and Immediate Effectiveness of Proposed Rule Changes by the Philadelphia Stock Exchange, Inc. Relating to an Amendment to the Exchange's Payment for Order Flow Fee and a Rebate for Certain Fees Incurred

Correction

In notice document 00-28224 beginning on page 66275 in the issue of Friday, November 3, 2000, the docket number is corrected to read as set forth above.

[FR Doc. C0-28224 Filed 11-27-00; 8:45 am]

BILLING CODE 1505-01-D